DEPARTMENT OF COMMERCE

National Oceanic and Atmospheric Administration

Hydrographic Services Review Panel Meeting

AGENCY: National Ocean Service, National Oceanic and Atmospheric Administration (NOAA), Department of Commerce.

ACTION: Notice of open public meeting.

SUMMARY: The Hydrographic Services Review Panel (HSRP) will hold a meeting that will be open to the public. Information about the HSRP and the meeting agenda will be posted at: http://www.nauticalcharts.noaa.gov/ocs/hsrp/meetings_cleveland2016.htm.

DATES: The meeting will be held on August 30, 8:30 a.m. to 3:00 p.m. EDT; August 31, 8:00 a.m. to 5:00 p.m.; and September 1, 8:00 a.m. to 12:00 noon. Times are subject to change. For updates, please check: http://www.nauticalcharts.noaa.gov/ocs/hsrp/meetings_cleveland2016.htm.

ADDRESSES: City Club of Cleveland, 830 Euclid Avenue, Cleveland, Ohio 44114.

FOR FURTHER INFORMATION CONTACT: Lynne Mersfelder-Lewis, HSRP program manager, National Ocean Service, Office of Coast Survey, NOAA (N/NSD), 1315 East-West Highway, SSMC3 #6301, Silver Spring, Maryland 20910; telephone: 301-713-2750 ext. 166; email: lynne.mersfelder@noaa.gov.

SUPPLEMENTARY INFORMATION: The meeting is open to the public, and public seating will be available on a first-come, first-served basis. The times of onsite public comment periods, scheduled for each day, will be included in the final agenda. Each individual or group making verbal comments will be limited to a total time of five (5) minutes. Comments will be recorded. Individuals who would like to submit written statements should email their comments to Lynne.Mersfelder@noaa.gov. The HSRP will provide webinar and teleconference capability for the public sessions. Pre-registration is required to access the webinar: http://www.nauticalcharts.noaa.gov/ocs/hsrp/meetings_cleveland2016.htm.

The Hydrographic Services Review Panel (HSRP) is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice. The charter and other information are located online at http://www.nauticalcharts.noaa.gov/ocs/hsrp/CharterBylawsHSIAStatute.htm.

Matters To Be Considered: The panel is convening to hear federal, state, regional and local partners and stakeholders on issues relevant to NOAA's navigation services, focusing on the Great Lakes area. Navigation services include the data, products, and services provided by the NOAA programs and activities that undertake geodetic observations, gravity modeling, shoreline mapping, bathymetric mapping, hydrographic surveying, nautical charting, tide and water level observations, current observations, and marine modeling. This suite of NOAA products and services support safe and efficient navigation, resilient coasts and communities, and the nationwide positioning information infrastructure to support America's commerce. The Panel will hear from federal agencies and non-federal organizations about their missions and their use of NOAA's navigation services; what value these services bring; and what improvements could be made. Other administrative matters may be considered. This agenda is subject to change.

Special Accommodations: This meeting is physically accessible to people with disabilities. Please direct requests for sign language interpretation or other auxiliary aids to Lynne.Mersfelder@noaa.gov by August 8, 2016.

Dated: June 17, 2016.
Gerd F. Glang,
Rear Admiral, Director, Office of Coast Survey, National Ocean Service, National Oceanic and Atmospheric Administration.

[FR Doc. 2016-15365 Filed 6-28-16; 8:45 am]

BILLING CODE P